DEPARTMENT OF TRANSPORTATION

Federal Aviation Administration

14 CFR Part 39

[Docket No. 2003-NM-68-AD]

RIN 2120-AA64

Airworthiness Directives; McDonnell Douglas Model MD-11 Airplanes

AGENCY: Federal Aviation Administration, DOT.

ACTION: Notice of proposed rulemaking (NPRM).

SUMMARY: This document proposes the supersedure of an existing airworthiness directive (AD), applicable to certain McDonnell Douglas Model MD-11 airplanes, that currently requires repetitive general visual inspections of the power feeder cables, terminal strip, fuseholder, and fuses of the galley load control unit (GLCU) within the No. 3 bay electrical power center (EPC) to detect damage; and corrective actions, if necessary. For certain airplanes, this action would require replacement of the electrical wiring of the galley in the EPC. For certain other airplanes, this action would require an inspection to detect damage of the electrical wiring of the galley in the EPC; corrective actions if necessary; modification of the wiring support; and removal of spare fuses; as applicable. These new actions would terminate the repetitive inspection requirements. This action also limits the applicability of the existing AD. This proposal is prompted by the FAA's determination that additional rulemaking is necessary. The actions specified by the proposed AD are intended to prevent chafing damage to the wire assembly, and consequent arcing and smoke and fire in the EPC, and to prevent damage to the wire assembly terminal lugs and overheating of the power feeder cables on the No. 3 and No. 4 GLCU, which could result in smoke and fire in the center accessory compartment.

DATES: Comments must be received by October 14, 2003.

ADDRESSES: Submit comments in triplicate to the Federal Aviation Administration (FAA), Transport Airplane Directorate, ANM-114, Attention: Rules Docket No. 2003-NM-68-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2003-NM-68-AD” in the subject line and need not be submitted in triplicate. Comments sent via the Internet as attached electronic files must be formatted in Microsoft Word 97 or 2000 or ASCII text.

The service information referenced in the proposed rule may be obtained from Boeing Commercial Aircraft Group, Long Beach Division, 3855 Lakewood Boulevard, Long Beach, California 90846, Attention: Data and Service Management, Dept. C1-L5A (D800-0024). This information may be examined at the FAA, Transport Airplane Directorate, 1601 Lind Avenue, SW., Renton, Washington; or at the FAA, Los Angeles Aircraft Certification Office, 3960 Paramount Boulevard, Lakewood, California.

FOR FURTHER INFORMATION CONTACT: Brett Portwood, Aerospace Engineer, Systems and Equipment Branch, ANM-130L, FAA, Los Angeles Aircraft Certification Office, 3960 Paramount Boulevard, Lakewood, California 90712-4137; telephone (562) 627-5350; fax (562) 627-5210.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2003-NM-68-AD.” The postcard will be date stamped and returned to the commenter.

Availability of NPRMs

Any person may obtain a copy of this NPRM by submitting a request to the FAA, Transport Airplane Directorate, ANM-114, Attention: Rules Docket No. 2003-NM-68-AD, 1601 Lind Avenue, SW., Renton, Washington 98055-4056.

Discussion

On August 23, 2002, the FAA issued AD 2002-17-06, amendment 39-12872 (67 FR 55716, August 30, 2002), applicable to certain McDonnell Douglas Model MD-11 airplanes, to supersede AD 2002-14-05, amendment 39-12805 (67 FR 47640, July 19, 2002) to require repetitive general visual inspections of the power feeder cables, terminal strip, fuseholder, and fuses of the galley load control unit (GLCU) within the No. 3 bay electrical power center (EPC) to detect damage; and corrective actions, if necessary. That action was prompted by information from the airplane manufacturer that accomplishment of the replacement required by AD 2002-14-05 could result in additional wire chafing damage in the EPC due to insufficient clearance from structure. The requirements of that AD are intended to prevent such chafing, and consequent arcing and smoke and fire in the EPC, and to prevent damage to the wire assembly terminal lugs and overheating of the power feeder cables on the No. 3 and No. 4 GLCU, which could result in smoke and fire in the center accessory compartment.

Actions Since Issuance of Previous Rule

In the preamble of AD 2002-17-06, the FAA indicated that the actions required by that AD were considered “interim action,” and that further rulemaking action would be considered once the airplane manufacturer developed a replacement that addresses the identified unsafe condition and once we approved that replacement. We now have determined that further rulemaking is indeed necessary, and this proposed AD follows from that determination.

Explanation of Relevant Service Information

We have reviewed and approved Revision 02 of Boeing Service Bulletin MD-11-24-184, dated January 7, 2003. Revision 02 of the service bulletin incorporates engineering data released subsequent to Revision 01 of the service bulletin (referenced in AD 2002-17-06 as the appropriate source of service information for the required actions) to provide additional details for ensuring proper wire clamping and support. Revision 02 also removes airplanes from the effectivity. Accomplishment of the actions specified in the service bulletin is intended to adequately address the identified unsafe condition.

Explanation of Requirements of Proposed Rule

Since an unsafe condition has been identified that is likely to exist or develop on other products of this same type design, the proposed AD would supersede AD 2002-17-06 to continue to require repetitive general visual inspections of the power feeder cables, terminal strip, fuseholder, and fuses of the GLCU within the No. 3 bay EPC to detect damage; and corrective actions, if necessary. The proposed AD would also require accomplishment of the actions specified in Revision 02 of the service bulletin described previously, which would terminate the repetitive inspection requirements.

Explanation of Change to Applicability

The applicability of the proposed AD references Boeing Service Bulletin MD11-24-184, Revision 02, dated January 7, 2003, as the appropriate source of service information for determining the affected airplanes (AD 2002-17-06 referenced Revision 01 of the service bulletin). The service bulletin reflects the most current listing of airplanes subject to the requirements of this proposed AD.

Changes to 14 CFR Part 39/Effect on the AD

On July 10, 2002, we issued a new version of 14 CFR part 39 (67 FR 47997, July 22, 2002), which governs our AD system. The regulation now includes material that relates to altered products, special flight permits, and alternative methods of compliance (AMOC). Because we have now included this material in part 39, for purposes of this proposed AD, it is only necessary to identify the office authorized to approved AMOCs and previously approved AMOCs that are acceptable for compliance with the applicable requirements of this proposed AD.

Cost Impact

There are approximately 112 airplanes of the affected design in the worldwide fleet. The FAA estimates that 32 airplanes of U.S. registry would be affected by this proposed AD.

The inspection that is currently required by AD 2002-17-06 and retained in this AD takes approximately 1 work hour per airplane to accomplish, at an average labor rate of $65 per work hour. Based on these figures, the cost impact of the currently required inspection on U.S. operators is estimated to be $2,080, or $65 per airplane, per inspection cycle.

Table 1 of this proposed AD shows the estimated cost impact of the new actions for airplanes affected by this proposed AD. The average labor rate is $65 per work hour. Table 1 is as follows:

Table 1.—Cost Estimate
Task | For group 1 airplanes: Work hours | For group 1 airplanes: Required parts | For group 1 airplanes: Cost per airplane | For group 2 airplanes: Work hours | For group 2 airplanes: Required parts | For group 2 airplanes: Cost per airplane
Replacement | 18 | $15,276 | $16,446 | 19 | $17,261 | $18,496

Task | Group 3 airplanes: Work hours | Group 3 airplanes: Required parts | Group 3 airplanes: Cost per airplane | For group 4 airplanes: Work hours | For group 4 airplanes: Required parts | For group 4 airplanes: Cost per airplane
Inspection | 1 | None | $65 | 1 | None | $65
Modification | 2 | $190 | $320 | 1 | $9 | $74

The cost impact figures discussed above are based on assumptions that no operator has yet accomplished any of the current or proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions. The manufacturer may cover the cost of replacement parts associated with this proposed AD, subject to warranty conditions. Manufacturer warranty remedies may also be available for labor costs associated with this proposed AD. As a result, the costs attributable to the proposed AD may be less than stated above.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-12872 (67 FR 55716, August 30, 2002), and by adding a new airworthiness directive (AD), to read as follows:

McDonnell Douglas: Docket 2003-NM-68-AD. Supersedes AD 2002-17-06, Amendment 39-12872.

Applicability: Model MD-11 airplanes, as listed in Boeing Service Bulletin MD11-24-184, Revision 02, dated January 7, 2003; certificated in any category.

Compliance: Required as indicated, unless accomplished previously.

To prevent chafing damage to the wire assembly, and consequent arcing and smoke and fire in the electrical power center (EPC), and to prevent damage to the wire assembly terminal lugs and overheating of the power feeder cables on the No. 3 and No. 4 galley load control unit (GLCU), which could result in smoke and fire in the center accessory compartment; accomplish the following:

Certain Requirements of AD 2002-17-06, Amendment 39-12872

Initial Inspection

(a) Do a general visual inspection of the power feeder cables, terminal strip, fuseholder, and fuses of the GLCU within the No. 3 bay EPC to detect damage (i.e., discoloration of affected parts or loose attachments), per McDonnell Douglas Alert Service Bulletin MD11-24A160, dated August 30, 1999; or Revision 01, dated November 11, 1999; at the applicable time specified in paragraph (a)(1) or (a)(2) of this AD.

(1) For airplanes on which the replacement required by paragraph (c) of AD 2002-14-05, amendment 39-12805, has been done: Inspect within 60 days after September 16, 2002 (the effective date AD 2002-17-06, amendment 39-12872).

(2) For airplanes on which the replacement required by paragraph (c) of AD 2002-14-05 has not been done: Inspect within 600 flight hours from the last inspection required by AD 2002-14-05, or within 60 days after September 16, 2002, whichever occurs later.

Note: For the purposes of this AD, a general visual inspection is defined as: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

No Damage Detected: Repetitive Inspections

(b) If no damage is detected during any inspection required by paragraph (a) of this AD, repeat the general visual inspection every 600 flight hours.

Damage Detected: Replacement and Repetitive Inspections

(c) If any damage is detected during any inspection required by paragraph (a) of this AD, before further flight, replace the power feeder cables, fuseholder, and/or fuses, as applicable, with new parts, per McDonnell Douglas Alert Service Bulletin MD11-24A160, dated August 30, 1999; or Revision 01, dated November 11, 1999. Repeat the general visual inspection every 600 flight hours.

New Requirements of This AD

Group 1 and Group 2 Airplanes: Replacement of Electrical Wiring

(d) For Group 1 and Group 2 airplanes identified in Boeing Service Bulletin MD11-24-184, Revision 02, dated January 7, 2003: Within 12 months after the effective date of this AD, replace the electrical wiring of the galley in the EPC in bays 1, 2, and 3, per the service bulletin. Accomplishment of the replacement terminates the requirements of paragraphs (a) through (c) of this AD.

Group 3 and Group 4 Airplanes: Inspection for Damage, Modification of Wiring Support, Removal of Fuses; and Corrective Action; As Applicable

(e) For Group 3 and Group 4 airplanes identified in Boeing Service Bulletin MD11-24-184, Revision 02, dated January 7, 2003: Within 12 months after the effective date of this AD, do the actions specified in paragraphs (e)(1), (e)(2), and (e)(3) of this AD per the service bulletin. Accomplishment of the applicable actions in those paragraphs terminates the requirements of paragraphs (a) through (c) of this AD.

(1) Do a general visual inspection to detect damage of the electrical wiring of the galley in the EPC in bays 1, 2, and 3. If any damage is detected, before further flight, repair or replace damaged wiring with new or serviceable wiring per the service bulletin.

(2) Modify wiring support in bay 1.

(3) Remove spare fuses and modify wiring support in bays 2 and 3.

Alternative Methods of Compliance

(f)(1) In accordance with 14 CFR 39.19, the Manager, Los Angeles Aircraft Certification Office (ACO), FAA, is authorized to approve alternative methods of compliance for this AD.

(2) Alternative methods of compliance, approved previously per AD 2002-17-06, amendment 39-12872, are approved as alternative methods of compliance with paragraphs (a) through (c) of this AD.

Issued in Renton, Washington, on August 20, 2003.
Kyle L. Olsen,
Acting Manager, Transport Airplane Directorate, Aircraft Certification Service.

[FR Doc. 03-21872 Filed 8-26-03; 8:45 am]

BILLING CODE 4910-13-P